NUCLEAR REGULATORY COMMISSION

[NRC-2016-0225]

Guidance for Electronic Submissions to the NRC

AGENCY: Nuclear Regulatory Commission.

ACTION: Notice of availability; request for comment.

SUMMARY: The U.S. Nuclear Regulatory Commission (NRC) is updating and requesting comments on its guidance for electronic submittals to reflect changes in technology by posting the latest version of its “Guidance for Electronic Submissions to the NRC (Revision 8).” This guidance document will provide direction for the electronic transmission and submittal of documents to the NRC.

DATES: Submit comments by December 5, 2016. Comments received after this date will be considered if it is practical to do so, but the Commission is able to ensure consideration only for comments received before this date.

ADDRESSES: You may submit comment by any of the following methods (unless this document describes a different method for submitting comments on a specific subject):

• Federal Rulemaking Web site: Go to http://www.regulations.gov and search for Docket ID NRC-2016-0225. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on accessing information and submitting comments, see “Obtaining Information and Submitting Comments” in the SUPPLEMENTARY INFORMATION section of this document.

FOR FURTHER INFORMATION CONTACT: Marianne Narick, Office of the Chief Information Officer, U.S. Nuclear Regulatory Commission, Washington DC 20555-0001; telephone: 301-415-2175; email: Marianne.Narick@nrc.gov.

SUPPLEMENTARY INFORMATION:

I. Obtaining Information and Submitting Comments

A. Obtaining Information

Please refer to Docket ID NRC-2016-0225 when contacting the NRC about the availability of information regarding this document. You may obtain publicly-available information related to this action by the following methods:

• Federal Rulemaking Web site: Go to http://www.regulations.gov and search for Docket ID NRC-2016-0225.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section. Revision 8 of the Electronic Guidance is available in ADAMS under Accession No. ML16293A712.

• NRC's PDR: You may examine and purchase copies of public documents at the NRC's PDR, Room O1-F21, One White Flint North, 11555 Rockville Pike, Rockville, Maryland 20852.

B. Submitting Comments

Please include Docket ID NRC-2016-0225 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The NRC eSubmittal Guidance offers direction on how to submit documents electronically to the NRC. It is intended for licensees, applicants, external entities (including Federal, State, and local governments), vendors, participants in adjudicatory proceedings, and members of the public who need to submit documents to the Agency.

This document is an update to the NRC eSubmittal Guidance Version 6.1 found on the NRC intranet at http://www.nrc.gov/site-help/electronic-sub-ref-mat.html. Significant changes to the document that are of interest to stakeholders are that the flow of information makes it more user-friendly for submitters, and NRC guidance is more closely aligned with the National Archives and Records Administration requirements.

Dated at Rockville, Maryland, this 27th day of October 2016.
For the Nuclear Regulatory Commission.
Cynthia Rheaume,
Director, IT/IM Portfolio Management and Planning Division, Office of the Chief Information Officer.

[FR Doc. 2016-26562 Filed 11-2-16; 8:45 am]

BILLING CODE 7590-01-P